TENNESSEE VALLEY AUTHORITY

Renewal of the Regional Resource Stewardship Council

Pursuant to the Federal Advisory Committee Act (FACA) and 41 CFR 102-3.65, and following consultation with the Committee Management Secretariat, General Services Administration (GSA), notice is hereby given that the Regional Resource Stewardship Council (Council) has been renewed for a two-year period beginning February 3, 2004. The Council will provide advice to the Tennessee Valley Authority (TVA) on issues affecting TVA's natural resource stewardship activities.

Numerous public and private entities are traditionally involved in the stewardship of the natural resources of the Tennessee Valley region. It has been determined that the Council continues to be needed to provide an additional mechanism for public input regarding stewardship issues.

Further information regarding this advisory committee can be obtained from Sandra L. Hill, 400 West Summit Hill Drive, WT 11A, Knoxville, Tennessee 37902-1499, (865) 632-2333.

Dated: March 3, 2004.
Kathryn J. Jackson,
Executive Vice President, River System Operations & Environment, Tennessee Valley Authority.

[FR Doc. 04-5451 Filed 3-10-04; 8:45 am]

BILLING CODE 8120-08-M